DEPARTMENT OF DEFENSE

Department of the Army

[Docket ID: USA-2015-0026]

Submission for OMB Review; Comment Request

ACTION: Notice.

SUMMARY: The Department of Defense has submitted to OMB for clearance, the following proposal for collection of information under the provisions of the Paperwork Reduction Act.

DATES: Consideration will be given to all comments received by January 6, 2016.

FOR FURTHER INFORMATION CONTACT: Fred Licari, 571-372-0493.

SUPPLEMENTARY INFORMATION: Title, Associated Form and OMB Number: U.S. Army Corps of Engineers, Instrument(s) for Navigation Improvement Survey(s), OMB Control Number 0710-XXXX.

Type of Request: New Collection.

Number of Respondents: 700.

Responses per Respondent: 1.

Annual Responses: 700.

Average Burden per Response: 40 Minutes.

Annual Burden Hours: 470 Hours.

Needs and Uses: The Corps of Engineers uses public surveys for collecting data for planning, formulation, and evaluation of projects. These projects include the construction, operation and maintenance of much of the nation's inland navigation infrastructure of locks, dams and channels as well as navigation channels at the nation's major ports. In addition, the Corps plans and builds small shallow draft harbors used by commercial fishermen and other users. As part of its planning and evaluation of these projects, the Corps surveys users of these systems to assess project benefits and impacts.

Affected Public: Business or other for-profit; individuals or households; not-for-profit institutions; state, local, or tribal governments.

Frequency: Annually.

Respondent's Obligation: Voluntary.

OMB Desk Officer: Mr. Stuart Levenbach.

Comments and recommendations on the proposed information collection should be emailed to Mr. Stuart Levenbach, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 02G09, Alexandria, VA 22350-3100.

Dated: December 1, 2015.
Aaron Siegel,
Alternate OSD Federal Register Liaison Officer, Department of Defense.

[FR Doc. 2015-30743 Filed 12-4-15; 8:45 am]

BILLING CODE 5001-06-P